DEPARTMENT OF TRANSPORTATION

Maritime Administration

[Docket No. MARAD 2010-0086, 2010-0087, 2010-0088]

Vessel Re-Designations

AGENCY: U.S. Department of Transportation, Maritime Administration.

ACTION: Notice.

SUMMARY: On September 4, 2009, the United States Department of Agriculture (USDA), the United States Department of Transportation's Maritime Administration (MARAD), and the United States Agency for International Development (USAID) entered into a Memorandum of Understanding (MOU) regarding the proper implementation of the Cargo Preference Act (CPA). The MOU was published in the Federal Register in 74 FR 47308 (Sept. 15, 2009). The MOU is also available at http://www.marad.dot.gov/documents/MAR730.AG-2009-02.pdf.

That MOU establishes procedures and standards by which owners and operators of oceangoing cargo ships may seek to designate each of their vessels as either a dry bulk carrier or a dry cargo liner, according to specified service-based criteria. This Notice both announces that MARAD has received an application to re-designate three vessels and invites comments there on from interested parties. MARAD will thereafter consider all the information submitted regarding the requested re-designation and other evidence in the record in reaching its decision on the appropriate vessel classification.

DATES: Comments are due October 25, 2010.

ADDRESSES: All comments should prominently refer to the docket assigned to the vessel to which they pertain. Interested persons are strongly encouraged to submit their comments electronically via the Internet at http://www.regulations.gov. Enter the docket number provided below that pertains to the relevant vessel and follow instructions for submitting comments. Comments may also be submitted via Fax or by hand or express delivery. Fax: (202) 493-2251. Hand or express delivery: Docket Clerk, U.S. Department of Transportation, Docket Operations, M-30, West Building Ground Floor, Room W12-140, 1200 New Jersey Avenue, SE., Washington, DC 20590.

FOR FURTHER INFORMATION CONTACT: Michael Yarrington, Maritime Administration, 1200 New Jersey Ave., SE., Washington, DC 20590; phone: (202) 366-1915; fax: (202) 366-5522; or e-mail: michael.yarrington@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours.

Background

The CPA requires that federal agencies take “necessary and practicable” steps to ensure that privately-owned U.S.-flag vessels transport at least 50 percent of the gross tonnage of cargo sponsored under Federal programs “(computed separately for dry bulk carriers, dry cargo liners, and tankers) to the extent such vessels are available at fair and reasonable rates for commercial vessels of the United States, in a manner that will ensure a fair and reasonable participation of commercial vessels of the United States in those cargoes by geographic areas.” 46 U.S.C. 55305(b). An additional 25 percent of gross tonnage of certain food assistance programs is to be transported in accordance with the requirements of 46 U.S.C. 55314.

The MOU adopts standards and procedures to be used to classify the vessels transporting preference cargo. Owners and operators of the vessels listed below have submitted applications to re-designate their ships as cargo liners. Each vessel has been assigned a separate docket containing the materials submitted. Interested persons are invited to submit comments regarding these vessels to the appropriate docket no later than 5 p.m. EDT on [Insert ten days after date of publication]. Commentators are advised to address their comments to the service-based criteria listed in the MOU.

Applications to Re-Designate
Docket | Owner/operator | Vessel
MARAD-2010-0086 | Liberty Maritime Corp | M/VLIBERTY EAGLE.
MARAD-2010-0087 | Liberty Maritime Corp | M/VLIBERTY GLORY.
MARAD-2010-0088 | Liberty Maritime Corp | M/VLIBERTY GRACE.

MARAD will issue such determinations no later than 15 calendar days from the close of the comment period. Vessel owners and operators who object to MARAD's designation may appeal to the MARAD Administrator within 10 calendar days. MARAD will issue its final determination in such cases within 30 calendar days after consultation with USAID, USDA, and the U.S. Department of State.

By Order of the Maritime Administrator.
Dated: October 7, 2010.
Christine Gurland,
Secretary, Maritime Administration.

[FR Doc. 2010-25840 Filed 10-13-10; 8:45 am]

BILLING CODE 4910-81-P